DEPARTMENT OF COMMERCE

International Trade Administration

Renewable Energy and Energy Efficiency Advisory Committee; Meeting

AGENCY: International Trade Administration, U.S. Department of Commerce.

ACTION: Notice of an open meeting.

SUMMARY: The Renewable Energy and Energy Efficiency Advisory Committee (REEEAC or the Committee) will hold an in-person meeting, accessible to the public in-person and online, on Thursday, January 25, 2024 at the U.S. Department of Commerce in Washington, DC. Registration instructions for the public to attend either in-person or online are provided below. The meeting has a limited number of spaces for members of the public to attend in-person. Requests to attend in-person will be considered on a first-come first-served basis.

DATES: Thursday, January 25, 2024, from approximately 10 a.m. to 3:30 p.m. eastern daylight time (EDT). Members of the public wishing to participate must register in advance with Cora Dickson at the contact information below by 5 p.m. EDT on Monday, January 22, 2024, including any requests to make comments during the meeting or for accommodations or auxiliary aids.

ADDRESSES: To register, please contact Cora Dickson, Designated Federal Officer (DFO), Office of Energy and Environmental Industries (OEEI), Industry and Analysis, International Trade Administration, U.S. Department of Commerce at (202) 482-6083; email: Cora.Dickson@trade.gov. In their registration, members of the public wishing to attend in-person must request in-person attendance by the firm deadline above.

FOR FURTHER INFORMATION CONTACT: Cora Dickson, DFO, Office of Energy and Environmental Industries (OEEI), Industry and Analysis, International Trade Administration, U.S. Department of Commerce at (202) 482-6083; email: Cora.Dickson@trade.gov. Registered participants joining virtually will be emailed the login information for the meeting, which will be accessible as a livestream via WebEx Webinar. Registered participants joining in-person will be emailed instructions on accessing the designated meeting space.

SUPPLEMENTARY INFORMATION:

Background: The Secretary of Commerce established the REEEAC pursuant to discretionary authority and in accordance with the Federal Advisory Committee Act, as amended (5 U.S.C. 1001 et seq.), on July 14, 2010. The REEEAC was re-chartered most recently on May 27, 2022. The REEEAC provides the Secretary of Commerce with advice from the private sector on the development and administration of programs and policies to expand the export competitiveness of U.S. renewable energy and energy efficiency products and services. More information about the REEEAC, including the list of appointed members for this charter, is published online at http://trade.gov/reeeac.

On January 25, 2024, the REEEAC will hold the sixth meeting of its current charter term. The Committee will deliberate on approval of several recommendations. The REEEAC will also be briefed on recent ITA accomplishments of relevance to the U.S. renewable energy and energy efficiency industries, including the delegation to COP28, the launch of the Clean Tech Top Export Markets website, and the establishment of the Supply Chain Center. The agenda will be made available by January 22, 2024 upon request to Cora Dickson, and the most current version of the agenda will also be made available on the REEEAC website.

The meeting will be open to the public and will be accessible to people with disabilities. All guests are required to register in advance by the deadline identified under the DATES caption. Requests for auxiliary aids must be submitted by the registration deadline. Last minute requests will be accepted but may not be possible to fill.

A limited amount of time before the close of the meeting will be available for oral comments from members of the public attending the meeting. Members of the public attending virtually who wish to speak during the public comment period must give the DFO advance notice in order to facilitate their access. To accommodate as many speakers as possible, the time for public comments will be limited to two to five minutes per person (depending on number of public participants). Individuals wishing to reserve speaking time during the meeting must contact Cora Dickson using the contact information above and submit a brief statement of the general nature of the comments, as well as the name and address of the proposed participant, by 5 p.m. EDT on Monday, January 22, 2024. If the number of registrants requesting to make statements is greater than can be reasonably accommodated during the meeting, the International Trade Administration may conduct a lottery to determine the speakers. Speakers are requested to submit a copy of their oral comments by email to Cora Dickson for distribution to the participants in advance of the meeting.

Any member of the public may submit written comments concerning the REEEAC's affairs at any time before or after the meeting. Comments may be submitted via email to the Renewable Energy and Energy Efficiency Advisory Committee, c/o: Cora Dickson, Designated Federal Officer, Office of Energy and Environmental Industries, U.S. Department of Commerce; Cora.Dickson@trade.gov. To be considered during the meeting, public comments must be transmitted to the REEEAC prior to the meeting. As such, written comments must be received no later than 5 p.m. EDT on Monday, January 22, 2024. Comments received after that date will be distributed to the members but may not be considered at the meeting.

Copies of REEEAC meeting minutes will be available within 30 days following the meeting.

Dated: January 3, 2024.
Man K. Cho,
Deputy Director, Office of Energy and Environmental Industries.

[FR Doc. 2024-00194 Filed 1-8-24; 8:45 am]

BILLING CODE 3510-DR-P